DEPARTMENT OF THE INTERIOR

National Park Service

[NPS-WASO-NAGPRA-NPS0027605, PPWOCRADN0-PCU00RP14.R50000]

Notice of Inventory Completion: Tennessee Valley Authority, Knoxville, TN

AGENCY: National Park Service, Interior.

ACTION: Notice.

SUMMARY: The Tennessee Valley Authority (TVA) has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to TVA. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to TVA at the address in this notice by May 29, 2019.

ADDRESSES: Dr. Thomas O. Maher, TVA, 400 West Summit Hill Drive, WT11C, Knoxville, TN 37902-1401, telephone (865) 632-7458, email tomaher@tva.gov.

SUPPLEMENTARY INFORMATION: Notice is here given in accordance with the Native American Graves Protection and Repatriation Act (NAGPRA), 25 U.S.C. 3003, of the completion of an inventory of human remains and associated funerary objects under the control of Tennessee Valley Authority, Knoxville, TN. The human remains and associated funerary objects were removed from archeological sites in Jackson and Marshall Counties, AL.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by TVA professional staff in consultation with representatives of the Absentee-Shawnee Tribe of Indians of Oklahoma; Alabama-Coushatta Tribe of Texas (previously listed as the Alabama-Coushatta Tribes of Texas); Cherokee Nation; Coushatta Tribe of Louisiana; Eastern Band of Cherokee Indians; Poarch Band of Creeks (previously listed as the Poarch Band of Creek Indians of Alabama); The Chickasaw Nation; The Choctaw Nation; The Muscogee (Creek) Nation; The Seminole Nation of Oklahoma; and the United Keetoowah Band of Cherokee Indians in Oklahoma (hereafter referred to as “The Consulted Tribes”).

History and Description of the Remains

Four of the sites listed in this notice were excavated as part of TVA's Guntersville Reservoir project by the Alabama Museum of Natural History (AMNH) at the University of Alabama, using labor and funds provided by the Works Progress Administration. Details regarding these excavations and sites may be found in “An Archaeological Survey of Guntersville Basin on the Tennessee River in Northern Alabama,” a report by William S. Webb and Charles G. Wilder. The human remains and associated funerary objects excavated from the sites listed in this notice have been in the physical custody of the AMNH at the University of Alabama since they were excavated.

In July 1973, human remains representing, at minimum, two individuals were removed from the Williams Landing site, 1JA306, Jackson County, AL, as part of a planned channelization of an adjacent creek. TVA purchased the site on August 18, 1937. A mound and sub-mound midden were excavated. Although there are no radiocarbon dates for this site, artifacts recovered from the site indicate a Middle Woodland burial mound with two intrusive Mississippian burials. One of the Mississippian burials was a 50-60 year old male, and the other was a 3-5 year old of indeterminate sex. No known individuals were identified. The 191 associated funerary objects are 44 Henry Island Punctate jar sherds; 89 Mississippi Plain sherds; 55 Mississippi Plain bowl sherds; one modified bone; and two modified shells.

From May to August, 1937, human remains representing, at minimum, eight individuals were removed from the McKee Island site, 1MS32, in Marshall County, AL. TVA acquired the site on November 12, 1936 as part of the Guntersville Reservoir project. This midden-rich village extended 800 feet along a ridge of the now inundated McKee Island. Although there are no radiocarbon dates from this site, ceramics recovered from 1MS32 indicate occupations during the Colbert (300 B.C.-A.D. 100), Flint River (A.D. 500-1000), and Crow Creek (A.D. 1500-1650) phases. The eight individuals from the Mississippian Crow Creek phase represent five adults, one juvenile, and two infants. Sex could only be determined for three of the adults (two males and one female). No known individuals were identified. The 89 associated funerary objects are one Bell Plain Effigy bowl; one Crow Creek bowl; 26 McKee Island Cord Marked sherds; one Mississippi Plain bowl; and 60 Mississippi Plain jar sherds.

From September 1937 to May 1938, human remains representing, at minimum, 24 individuals were removed from the Henry Island site, 1MS55, in Marshall County, AL. TVA initiated purchase of the site on November 2, 1936 as part of the Guntersville Reservoir project. This site was composed of two earthen mounds and an associated village midden. Although there are no radiocarbon dates from this site, artifacts from the excavation suggest occupations during the Copena (A.D. 100-500), Flint River (A.D. 500-1000), Henry Island (A.D. 1200-1500), and Crow Creek (A.D. 1500-1650) phases. The human remains from the Mississippian Henry Island and Crow Creek phases represent adults, juveniles, and infants of both sexes. No known individuals were identified. The 499 associated funerary objects are one ground stone abrader; one animal tooth; one Bell Plain bottle; one Bell Plain bowl; six Bell Plain sherds; one bone pin; one unidentified bone; one burnishing stone; two celts; two quartz crystal beads; one daub; one stone effigy pipe; two ceramic elbow pipes; one fired clay; 137 glass beads; one mica gorget; 10 graphite nodules; one ground hematite; two ground sandstone fragments; one Hamilton PP/K; three Langston Fabric Marked sherds; four McKee Island Brushed sherds; one McKee Island Cord Marked jar; 11 McKee Island Cordmarked sherds; six McKee Island Incised sherds; eight McKee Island Punctate sherds; one Mississippi Plain bowl; two Mississippi Plain hooded bottles; four Mississippi Plain jars; 278 Mississippi Plain sherds; one shell cup; one Triskele style shell gorget; one shell with ground edges; two engraved stone earspools; and two shell beads.

From June to October 1938, human remains representing, at minimum, six individuals were removed from the Harris site, 1MS80, in Marshall County, AL. TVA purchased the site on January 26, 1937 as part of the Guntersville Reservoir project. This shell-midden site was excavated through trenches and horizontal blocks. Although there are no radiocarbon dates from this site, artifacts from the excavation suggest occupations during the Copena (A.D. 100-500), Flint River (A.D. 500-1000), and Henry Island (A.D. 1200-1500) phases. The six sets of human remains from the Mississippian Henry Island phase represent an adult, juveniles, and infants of both sexes. No known individuals were identified. The 29 associated funerary objects are one Bell Plain bowl; one Carthage Incised, var. Akron bowl; one ceramic bead; two Mississippi Plain jars; 23 shell beads; and one shell cup.

In January 1939, human remains representing, at minimum, two individuals were removed from the Halls site, 1MS107, in Marshall County, AL. TVA purchased the site on April 14, 1937 as part of the Guntersville Reservoir project. This village site was shallow and had been disturbed by river erosion. Although there are no radiocarbon dates from this site, artifacts from the excavation suggest occupations during the Colbert (300 B.C.-A.D. 100), Flint River (A.D. 500-1000), and Henry Island (A.D. 1200-1500) phases. The human remains from the Mississippian Henry Island phase are one female 35-45 years old and one adult of unknown sex. No known individuals were identified. The two associated funerary objects are one Mississippi Plain bottle and one Mississippi Plain jar.

The preponderance of the evidence indicates that the cultural items from Mississippian burials at 1JA306, 1MS32, 1MS55, 1MS80, and 1MS107 are culturally affiliated with Native Americans descendants of the earlier Koasati/Kaskinampo. These descendants include the Alabama-Coushatta Tribe of Texas (previously listed as the Alabama-Coushatta Tribes of Texas); Alabama-Quassarte Tribal Town; Coushatta Tribe of Louisiana; and The Muscogee (Creek) Nation.

Spanish explorers of the 16th century and French explorers of the 17th and 18th century chronicle the presence of chiefdom-level tribal entities in the southeastern United States which resemble the Mississippian chiefdoms. Linguistic analysis of the place names noted by multiple Spanish explorers indicates that Koasati-speaking groups inhabited northeastern Alabama. Early maps and research into the historic Native American occupation of northeastern Alabama further indicate that the Koasati (as called by the English) or the Kaskinampo (as called by the French) were found at multiple sites in Jackson and Marshall Counties in the 17th and 18th centuries. Oral history, traditions, and expert opinions of the descendants of Koasati/Kaskinampo indicate that this portion of the Tennessee River valley was a homeland of each of their tribes.

Determinations Made by the Tennessee Valley Authority

Officials of TVA have determined that:

• Pursuant to 25 U.S.C. 3001(9), the human remains described in this notice represent the physical remains of 42 individuals of Native American ancestry due to their presence in prehistoric archeological sites and an osteological analysis.

• Pursuant to 25 U.S.C. 3001(3)(A), the 810 objects described in this notice are reasonably believed to have been placed with or near individual human remains at the time of death or later as part of the death rite or ceremony.

• Pursuant to 25 U.S.C. 3001(2), there is a relationship of shared group identity that can be reasonably traced between the Native American human remains and associated funerary objects from Mississippian burials and the Alabama-Coushatta Tribe of Texas (previously listed as the Alabama-Coushatta Tribes of Texas); Alabama-Quassarte Tribal Town; Coushatta Tribe of Louisiana; and The Muscogee (Creek) Nation.

Additional Requestors and Disposition

Lineal descendants or representatives of any Indian Tribe or Native Hawaiian organization not identified in this notice that wish to request transfer of control of these human remains and associated funerary objects should submit a written request with information in support of the request to Dr. Thomas O. Maher, TVA, 400 West Summit Hill Drive, WT11C, Knoxville, TN 37902-1401, telephone (865) 632-7458, email tomaher@tva.gov, by May 29, 2019. After that date, if no additional requestors have come forward, transfer of control of the Mississippian human remains and associated funerary objects to the Alabama-Coushatta Tribe of Texas (previously listed as the Alabama-Coushatta Tribes of Texas); Alabama-Quassarte Tribal Town; Coushatta Tribe of Louisiana; and The Muscogee (Creek) Nation may proceed.

The Tennessee Valley Authority is responsible for notifying The Consulted Tribes that this notice has been published.

Dated: April 2, 2019.
Melanie O'Brien,
Manager, National NAGPRA Program.

[FR Doc. 2019-08591 Filed 4-26-19; 8:45 am]

BILLING CODE 4312-52-P